DEPARTMENT OF ENERGY

Agency Information Collection Extension

AGENCY: U.S. Department of Energy.

ACTION: Submission for Office of Management and Budget (OMB) review; comment request.

SUMMARY: The Department of Energy (DOE) has submitted an information collection request to OMB for extension under the provisions of the Paperwork Reduction Act of 1995. The information collection requests a three-year extension of its Chronic Beryllium Disease Prevention Program, OMB Control Number 1910-5112. This information collection request covers the information from DOE and DOE contractors that are subject to the Department's “Chronic Beryllium Disease Prevention Program,” title 10, Code of Federal Regulations, part 850 (10 CFR part 850). The regulations contained in the Chronic Beryllium Disease Prevention Program have been promulgated under authority of the Atomic Energy Act of 1954 and the Department of Energy Organization Act.

DATES: Comments regarding this collection must be received on or before October 15, 2009. If you anticipate that you will be submitting comments, but find it difficult to do so within the period of time allowed by this notice, please advise the OMB Desk Officer of your intention to make a submission as soon as possible. The Desk Officer may be telephoned at (202) 395-4650.

ADDRESSES: Written comments should be sent to the DOE Desk Officer, Office of Information and Regulatory Affairs, Office of Management and Budget, New Executive Office Building, Room 10102, 735 17th Street, NW., Washington, DC 20503; and to Jacqueline D. Rogers, U.S. Department of Energy; Office of Health, Safety and Security, HS-11; 1000 Independence Avenue, SW., Washington, DC 20585, (202) 586-4714, by fax at 202-586-8548, or by e-mail at: jackie.rogers@hq.doe.gov.

FOR FURTHER INFORMATION CONTACT: Requests for additional information should be directed to Jacqueline D. Rogers, U.S. Department of Energy; Office of Health, Safety and Security, HS-11; 1000 Independence Avenue, SW., Washington, DC 20585, (202) 586-4714, by fax at 202-586-8548, or by e-mail at jackie.rogers@hq.doe.gov.

SUPPLEMENTARY INFORMATION: This information collection request contains: (1) Current OMB Control Number: 1910-5112; (2) Information Collection Request Title: Chronic Beryllium Disease Prevention Program; (3) Purpose: This collection provides the Department with the information needed to reduce the number of workers currently exposed to beryllium in the course of their work at DOE facilities managed by DOE or its contractors; minimize the levels and potential exposure to beryllium; and provide medical surveillance to ensure early detection of disease; (4) Estimated Number of Respondents: 5,799; (5) Estimated Total Burden Hours: 25,024; (6) Number of Collections: The information collection request contains six information and/or recordkeeping requirements.

Statutory Authority: Atomic Energy Act of 1954, 42 U.S.C. 2201, and the Department of Energy Organization Act, 42 U.S.C. 7191 and 7254.

Issued in Washington, DC.
Lesley A. Gasperow,
Director, Office of Resource Management, Office of Health, Safety and Security.

[FR Doc. E9-22155 Filed 9-14-09; 8:45 am]

BILLING CODE 6450-01-P